DEPARTMENT OF COMMERCE

National Oceanic and Atmospheric Administration

RIN 0648-AY63

Taking and Importing Marine Mammals; Taking Marine Mammals Incidental to Operation of Offshore Oil and Gas Facilities in the U.S. Beaufort Sea

AGENCY: National Marine Fisheries Service (NMFS), National Oceanic and Atmospheric Administration (NOAA), Commerce.

ACTION: Notice; receipt of application for letter of authorization; request for comments and information.

SUMMARY: NMFS has received a request from BP Exploration (Alaska) Inc. (BP) for authorization for the take of marine mammals incidental to operation of offshore oil and gas facilities in the U.S. Beaufort Sea, AK, for the period April 2011 - April 2016. Pursuant to the Marine Mammal Protection Act (MMPA), NMFS is announcing receipt of BP's request for the development and implementation of new 5-year regulations governing the incidental taking of marine mammals and inviting information, suggestions, and comments on BP's application and request.

DATES: Comments and information must be received no later than April 16, 2010.

ADDRESSES: Comments on the application should be addressed to Michael Payne, Chief, Permits, Conservation and Education Division, Office of Protected Resources, National Marine Fisheries Service, 1315 East-West Highway, Silver Spring, MD 20910. The mailbox address for providing e-mail comments is PR1.0648-AY63@noaa.gov. NMFS is not responsible for e-mail comments sent to addresses other than the one provided here. Comments sent via e-mail, including all attachments, must not exceed a 10-megabyte file size.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

FOR FURTHER INFORMATION CONTACT: Candace Nachman, Office of Protected Resources, NMFS, (301) 713-2289, ext. 156.

SUPPLEMENTARY INFORMATION:

Availability

A copy of BP's application may be obtained by writing to the address specified above (ADDRESSES), calling the contact listed above (FOR FURTHER INFORMATION CONTACT), or visiting the Internet at: http://www.nmfs.noaa.gov/pr/permits/incidental.htm.

Background

Sections 101(a)(5)(A) and (D) of the MMPA (16 U.S.C. 1361 et seq.) direct the Secretary of Commerce to allow, upon request, the incidental, but not intentional, taking of small numbers of marine mammals by U.S. citizens who engage in a specified activity (other than commercial fishing) within a specified geographical region if certain findings are made and either regulations are issued or, if the taking is limited to harassment, a notice of a proposed authorization is provided to the public for review.

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as “...an impact resulting from the specified activity that cannot be reasonably expected to, and is not reasonably likely to, adversely affect the species or stock through effects on annual rates of recruitment or survival.”

Except with respect to certain activities not pertinent here, the MMPA defines “harassment” as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Summary of Request

On November 6, 2009, NMFS received an application from BP requesting authorization for the take of six marine mammal species incidental to operation of the Northstar development in the Beaufort Sea, AK, over the course of 5 years, which would necessitate the promulgation of new five-year regulations. Construction of Northstar was completed in 2001. The proposed activities for 2011-2016 include a continuation of drilling, production, and emergency training operations but no construction or activities of similar intensity to those conducted between 1999 and 2001. The likely or possible impacts of the planned offshore oil developments at Northstar on marine mammals involve both non-acoustic and acoustic effects. Potential non-acoustic effects could result from the physical presence of personnel, structures and equipment, construction or maintenance activities, and the occurrence of oil spills. Petroleum development and associated activities in marine waters introduce sound into the environment, produced by island construction, maintenance, and drilling, as well as vehicles operating on the ice, vessels, aircraft, generators, production machinery, gas flaring, and camp operations. BP requests authorization to take individuals of three cetacean and three pinniped species by Level B Harassment. Further, BP requests authorization to take five individual ringed seals by serious injury or mortality annually over the course of the 5-year rule.

Specified Activities

In the application submitted to NMFS, BP requests authorization to take marine mammals incidental to operation of offshore oil and gas facilities in the U.S. Beaufort Sea. Activities include: the transportation of personnel, equipment, and supplies; production operations; drilling operations; pipeline design, inspection, and maintenance; routine repair and maintenance; and emergency and oil spill response training. Sections 1 and 2 of BP's application describe the full suite of activities, as well as the location and duration of activity.

Information Solicited

Interested persons may submit information, suggestions, and comments concerning BP's request (see ADDRESSES). All information, suggestions, and comments related to BP's request and NMFS' potential development and implementation of regulations governing the incidental taking of marine mammals by BP's activities will be considered by NMFS in developing, if appropriate, the most effective regulations governing the issuance of letters of authorization.

Dated: March 11, 2010.
James H. Lecky,
Director, Office of Protected Resources, National Marine Fisheries Service.

[FR Doc. 2010-5835 Filed 3-16-10; 8:45 am]

BILLING CODE 3510-22-S